DEPARTMENT OF HOMELAND SECURITY

[Docket No. NCS-2006-0004]

Preparedness Directorate; National Security Telecommunications Advisory Committee

AGENCY: Preparedness Directorate, DHS.

ACTION: Notice of partially closed advisory committee meeting.

SUMMARY: The President's National Security Telecommunications Advisory Committee (NSTAC) will meet in a partially closed session.

DATES: Wednesday, May 10, 2006, from 9:15 a.m. until 3:30 p.m.

ADDRESSES: The meeting will take place at the Ronald Reagan Building and International Trade Center, Washington, DC. If you desire to submit comments, they must be submitted by May 2, 2006. Comments must be identified by NCS-2006-0004 and may be submitted by one of the following methods:

• Federal eRulemaking Portal: http://www.regulations.gov. Follow the instructions for submitting comments.

• E-mail: NSTAC@dhs.gov. Include docket number in the subject line of the message.

• Mail: Office of the Manager, National Communications System (N5), Department of Homeland Security, Washington, DC 20529.

Instructions: All submissions received must include the words “Department of Homeland Security” and NCS-2006-0004, the docket number for this action. Comments received will be posted without alteration at http://www.regulations.gov, including any personal information provided.

Docket: For access to the docket to read background documents or comments received by the NSTAC, go to http://www.regulations.gov.

FOR FURTHER INFORMATION CONTACT: Ms. Kiesha Gebreyes, Chief, Industry Operations Branch at (703) 235-5525, e-mail: kiesha.gebreyes@dhs.gov or write the Deputy Manager, National Communications System, Department of Homeland Security, IP/NCS/N5.

SUPPLEMENTARY INFORMATION: The NSTAC advises the President of the United States on issues and problems related to implementing national security and emergency preparedness (NS/EP) telecommunications policy. Notice of this meeting and the partial closure thereof is given under the Federal Advisory Committee Act (FACA), Pub. L. 92-463, as amended (5 U.S.C. App. 1 et seq.).

At the upcoming meeting, between 9:15 a.m. and 10:15 a.m., the committee will discuss ongoing NSTAC task force work of the Emergency Communications & Interoperability Task Force, Telecommunications and Electric Power Interdependency Task Force, Legislative and Regulatory Task Force, and Research and Development Task Force. This portion of the meeting will be open to the public.

Following the morning Business Session, the committee will hold an Executive Session between the hours of 10:30 a.m. and 3:30 p.m. to discuss emergency communications & interoperability, international implications of the NGN, and regional coordination, planning, and exercises. The Executive Session will conclude with a discussion of the findings and conclusions reached during the meeting. This portion of the meeting will be closed to the public.

Basis for Closure: The Executive Session will likely include discussions of sensitive infrastructure information concerning system threats and explicit physical/cyber vulnerabilities related to current emergency communications capabilities and the use of national security and emergency preparedness services over the next generation networks. Public disclosure of such information would heighten awareness of potential vulnerabilities and increase the likelihood of exploitation by terrorists or other motivated adversaries.

The Executive Session will occur between 10:30 a.m. and 3:30 p.m. and will involve sensitive information. Pursuant to Section 10(d) of the Federal Advisory Committee Act, Public Law 92-463, as amended (5 U.S.C. App. 1 et seq.), the Department has determined that this discussion will concern matters which, if disclosed, would be likely to frustrate significantly the implementation of a proposed agency action. Accordingly, the relevant portion of this meeting will be closed to the public pursuant to the authority set forth in 5 U.S.C. 552b(c)(9)(B).

Dated: April 5, 2006.
Peter M. Fonash,
Deputy Manager National Communications System.

[FR Doc. 06-3994 Filed 4-26-06; 8:45 am]

BILLING CODE 4410-10-P